DEPARTMENT OF HEALTH AND HUMAN SERVICES

Centers for Disease Control and Prevention

[Docket No. CDC-2018-0115]

Advancing Tobacco Control Practices To Prevent Initiation of Tobacco Use Among Youth and Young Adults, Eliminate Exposure to Secondhand Smoke, and Identify and Eliminate Tobacco-Related Disparities; Request for Information

AGENCY: Centers for Disease Control and Prevention (CDC), Department of Health and Human Services (HHS).

ACTION: Request for information.

SUMMARY: The Centers for Disease Control and Prevention (CDC) within the Department of Health and Human Services (HHS) leads comprehensive efforts to prevent the initiation of tobacco use among youth and young adults; eliminate exposure to secondhand smoke; help current smokers quit; and identify and eliminate tobacco-related disparities. In late 2017, CDC solicited input from the public in the Federal Register Notice 82 FR 50428 regarding nationwide priorities for cessation. CDC is currently reviewing and compiling public comments to inform future activities that could efficiently and cost effectively help people quit using tobacco by employing evidence-based treatment options. CDC will share the outcome of this request for information with the public on a date to be determined. Now, CDC is seeking information to inform future activities to advance tobacco control practices that prevent initiation of tobacco use among youth and young adults; eliminate exposure to secondhand smoke; and identify and eliminate tobacco-related disparities.

DATES: Written comments must be received on or before February 11, 2019.

ADDRESSES: Submit comments by any one of the following methods:

• Internet: Electronic comments may be sent via http://www.regulations.gov, docket control number CDC-2018-0115. Please follow the directions on the site to submit comments; or

Mail: Comments may also be sent by mail to the attention of Randi Frank, Office on Smoking and Health, Centers for Disease Control and Prevention, 4770 Buford Hwy, Mail Stop S107-7, Atlanta, GA 30341.

Instructions: All submissions received must include the agency name and Docket Number. All relevant comments received will be posted without change to, including any personal information provided. For access to the docket to read background documents or comments received, go to http://www.regulations.gov.

FOR FURTHER INFORMATION CONTACT: Randi Frank, Office on Smoking and Health, Centers for Disease Control and Prevention, 4770 Buford Hwy, Mail Stop S107-7, Atlanta, GA 30341; Telephone (770) 488-5114; Email: OSHFRN@cdc.gov.

SUPPLEMENTARY INFORMATION:

Scope of Problem

Tobacco use is the leading cause of preventable disease, disability, and death in the United States.¹ The burden of death and disease from tobacco use in the United States is overwhelmingly caused by cigarettes and other combusted tobacco products; therefore, rapid elimination of their use will dramatically reduce this burden.¹

Cigarette smoking alone causes more than 480,000 deaths each year, including more than 41,000 secondhand smoke related deaths, and costs the country over $300 billion annually in health care spending and lost productivity.1 2 Cigarette smoking is causally linked to numerous types of cancer, respiratory and cardiovascular diseases, diabetes, eye disease, complications to pregnancy and reproduction, and compromises the immune system.

Prevent Initiation of Tobacco Use Among Youth and Young Adults

Any form of tobacco product use is unsafe for youth, irrespective of whether it is smoked, smokeless, or electronic. Since brain development continues through the early to mid-20s, the use of products containing nicotine, including e-cigarettes, can be harmful to youth and young adults. Specifically, the use of these products can disrupt the growth of brain circuits that control attention, learning, and susceptibility to addiction.³ In 2018, nearly 4.9 million United States middle and high school students currently used (≥1 day in past 30 days) at least one type of tobacco product, with e-cigarettes being the most commonly used tobacco product.⁴ Flavors are a major factor contributing to the use of these products among young people; 85% of youth e-cigarette users report using flavors.⁵ The use of e-cigarettes may also lead to future cigarette smoking among some youth.⁶ In addition to e-cigarettes, youth also use several other types of tobacco products, and disparities in use of these products exist across population groups.¹⁴

Eliminate Exposure to Secondhand Smoke

The U.S. Surgeon General has concluded that there is no risk-free level of secondhand smoke exposure; even brief exposure can be harmful to health.7 8 During 2011-2012, about 58 million nonsmokers in the United States were exposed to secondhand smoke, and exposure remains higher among children, non-Hispanic blacks, those living in poverty, and those who rent their housing.⁹ Secondhand smoke exposure can cause heart disease, lung cancer, and stroke among adults, as well as the following in children: 1 7 8

• Ear infections

• More frequent and severe asthma

• Respiratory symptoms (for example, coughing, sneezing, and shortness of breath)

• Respiratory infections (bronchitis and pneumonia)

• Sudden unexplained infant death syndrome (SUIDS)

Identify and Eliminate Tobacco-Related Disparities

Although progress has been made in reducing tobacco use in the general population, disparities persist across population groups.¹ These disparities can affect populations on the basis of certain factors, including but not limited to: 10 11

• Age

• Disability

• Educational attainment

• Geographic location (e.g., rural/urban)

• Income

• Mental health and substance abuse conditions

• Employment status

• Race/ethnicity

• Sex

• Sexual orientation and gender identity

• Veteran and military status

Addressing the social and environmental factors that influence tobacco use can advance equity in tobacco prevention and control, and reduce tobacco-related disparities among populations disproportionately impacted by tobacco use.¹² These efforts can help reduce the overall prevalence of tobacco use.¹³

Approach: CDC is seeking input to inform future activities to advance tobacco control practices to prevent initiation of tobacco use among youth and young adults; eliminate exposure to secondhand smoke; and identify and eliminate tobacco-related disparities. The information gathered will be used to inform activities that encompass technical assistance and guidance to state tobacco control programs and collaborative work with national governmental and nongovernmental partners, who share CDC's goals to prevent initiation of tobacco use among youth and young adults; eliminate exposure to secondhand smoke; and identify and eliminate tobacco-related disparities.

CDC is specifically interested in receiving information on the following issues:

(1) What innovative strategies are working in communities to prevent tobacco use among youth, especially in terms of flavored tobacco products and e-cigarettes?

(2) How can CDC best educate all community members about the harmful effects of secondhand smoke exposure?

(3) How can CDC support state and local health departments and their partners to improve community engagement with populations most at risk for tobacco use?

(4) What innovative strategies are effective in communities to decrease tobacco use in population groups that have the greatest burden of tobacco use and secondhand smoke exposure?

(5) What science, tools, or resources does the public health sector need CDC to develop in order to enhance and sustain tobacco prevention and control efforts?

References

1. U.S. Department of Health and Human Services. The Health Consequences of Smoking—50 Years of Progress: A Report of the Surgeon General. Atlanta: U.S. Department of Health and Human Services, Centers for Disease Control and Prevention, National Center for Chronic Disease Prevention and Health Promotion, Office on Smoking and Health, 2014.

2. Xu X, Bishop EE, Kennedy SM, Simpson SA, Pechacek TF. Annual Healthcare Spending Attributable to Cigarette Smoking: An Update. American Journal of Preventive Medicine 2014;48(3):326-33.

3. U.S. Department of Health and Human Services. E-cigarette use among youth and young adults: a report of the Surgeon General. Atlanta, GA: US Department of Health and Human Services, CDC; 2016 [accessed 2018 Oct 18].

4. Cullen KA, Ambrose BK, Gentzke AS, Apelberg BJ, Jamal A, King BA. Notes from the Field: Increase in e-cigarette use and any tobacco product use among middle and high school students—United States, 2011-2018. Morbidity and Mortality Weekly Report. 2018;67(45);1276-1277.

5. Ambrose BK, Day HR, Rostron B, et al. Flavored Tobacco Product Use Among US Youth Aged 12-17 Years, 2013-2014. JAMA. 2015;314(17):1871-1873.doi:10.1001/jama.2015.13802U.S.

6. National Academies of Sciences, Engineering, and Medicine. 2018. Public health consequences of e-cigarettes. Washington, DC: The National Academies Press. doi: https://doi.org/10.17226/24952.

7. Department of Health and Human Services. A Report of the Surgeon General: How Tobacco Smoke Causes Disease: What It Means to You. Atlanta: U.S. Department of Health and Human Services, Centers for Disease Control and Prevention, National Center for Chronic Disease Prevention and Health Promotion, Office on Smoking and Health, 2010 [accessed 2018 Oct 10].

8. U.S. Department of Health and Human Services. The Health Consequences of Involuntary Exposure to Tobacco Smoke: A Report of the Surgeon General. Atlanta: U.S. Department of Health and Human Services, Centers for Disease Control and Prevention, National Center for Chronic Disease Prevention and Health Promotion, Office on Smoking and Health, 2006 [accessed 2018 Oct 10].

9. Centers for Disease Control and Prevention. Vital signs: Disparities in nonsmokers' exposure to secondhand smoke—United States, 1999-2012. Morbidity and Mortality Weekly Report. 2015;64:103-108.[accessed 2018 Oct 22].

10. Centers for Disease Control and Prevention. Cigarette smoking—United States, 1965-2008. Morbidity and Mortality Weekly Report. 2011;60(01):109-3. [accessed 2018 Oct 22].

11. King BA, Dube SR, Tynan MA. Current tobacco use among adults in the United States: findings from the National Adult Tobacco Survey. American Journal of Public Health 2012;102(11):e93-e100. [accessed 2018 Oct 23].

12. Centers for Disease Control and Prevention. Best Practices User Guide: Health Equity in Tobacco Prevention and Control. Atlanta: U.S. Department of Health and Human Services, Centers for Disease Control and Prevention, National Center for Chronic Disease Prevention and Health Promotion, Office on Smoking and Health, 2015.

13. Centers for Disease Control and Prevention. Best Practices for Comprehensive Tobacco Control Programs—2014. Atlanta: U.S. Department of Health and Human Services, Centers for Disease Control and Prevention, National Center for Chronic Disease Prevention and Health Promotion, Office on Smoking and Health, 2014 [accessed 2018 Oct 18].

14. Centers for Disease Control and Prevention. Flavored Tobacco Product Use Among Middle and High School Students—United States, 2014. Morbidity and Mortality Weekly Report. 2015;64(38);1066-1070. [accessed 2018 Nov 16].

Dated: December 4, 2018.
Sandra Cashman,
Executive Secretary, Centers for Disease Control and Prevention.

[FR Doc. 2018-26708 Filed 12-10-18; 8:45 am]

BILLING CODE 4163-18-P